CORPORATION FOR NATIONAL AND COMMUNITY SERVICE

Proposed Information Collection; Submission for OMB Review; Comment Request

AGENCY: Corporation for National and Community Service.

ACTION: Notice.

The Corporation for National and Community Service (hereinafter the “Corporation”) has submitted the following public information collection request (ICR) to the Office of Management and Budget (OMB) for review and approval in accordance with the Paperwork Reduction Act of 1995 (Public Law 104-13, (44 U.S.C. Chapter 35)). Copies of this ICR, with applicable supporting documentation, may be obtained by calling the Corporation for National and Community Service, Shelly Ryan, Program Coordinator, (202) 606-5000, extension 549. Individuals who use a telecommunications device for the deaf (TTY-TDD) may call (202) 565-2799 between 8:30 a.m. and 5 p.m. Eastern time, Monday through Friday.

Comments should be sent to the Office of Information and Regulatory Affairs (OIRA), New Executive Office Building, Records Management Center, Room 10102, Attn: Ms. Fumie Yokota, OMB Desk Officer for the Corporation for National and Community Service, 725 17th Street, NW., Washington, DC 20503, (202) 395-3147, within 30 days from the date of this publication in the Federal Register.

The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information to those who are to respond, including through the use of appropriate automated, electronic, mechanical, or other technological collection techniques or other forms of information technology, e.g. permitting electronic submissions of responses.

Description

The Corporation seeks public comment on the forms, the instructions for the forms, and the instructions for the narrative portion of these application instructions.

Type of Review: Reinstatement with change.

Agency: Corporation for National and Community Service.

Title: AmeriCorps Promise Fellows Continuation Instructions.

OMB Number: 3045-0073.

Agency Number: None.

Affected Public: Eligible applicants to the Corporation for funding.

Total Respondents: 41.

Frequency: Once per year.

Average Time Per Response: Twenty-five (25) hours.

Estimated Total Burden Hours: 1,025 hours.

Total Burden Cost (capital/startup): None.

Total Burden Cost (operating/maintenance): None.

Dated: May 6, 2003.
Nancy Talbot,
Director, Program Planning and Development.

[FR Doc. 03-11734 Filed 5-9-03; 8:45 am]

BILLING CODE 6050-$$-P